ENVIRONMENTAL PROTECTION AGENCY

[FRL-9923-99-OAR]

Inventory of U.S. Greenhouse Gas Emissions and Sinks: 1990-2013; Correction

AGENCY: U.S. Environmental Protection Agency.

ACTION: Notice of document availability and request for comments; correction.

SUMMARY: On February 24, 2015, the U.S. Environmental Protection Agency (EPA) published a document in the Federal Register regarding the notice of availability and request for public comment on U.S. quantification and reporting of greenhouse gas emissions and sinks. The Web site link was inadvertently omitted and this notice corrects that omission.

FOR FURTHER INFORMATION CONTACT: Mr. Leif Hockstad, (202) 343-9432.

Correction:

In the Federal Register of February 24, 2015, in FR Doc. 2015-03729, on page 9718, in the second column, correct the last sentence of the ADDRESSES caption to read:

“The draft report can be obtained by visiting the U.S. EPA's Climate Change Site at: http://www.epa.gov/climatechange/ghgemissions/usinventoryreport.html.”

Dated: February 24, 2015.
Sarah Dunham,
Director, Office of Atmospheric Programs.

[FR Doc. 2015-04487 Filed 3-3-15; 8:45 am]

BILLING CODE 6560-50-P